DEPARTMENT OF JUSTICE

Drug Enforcement Administration

Manufacturer of Controlled Substances; Notice of Registration

By Notice dated April 21, 2000, and published in the Federal Register on May 12, 2000, (65 FR 30616), Mallinckrodt, Inc., Mallinckrodt & Second Streets, St. Louis, Missouri 63147, made application by renewal to the Drug Enforcement Administration (DEA) to be registered as a bulk manufacturer of the basic classes of controlled substances listed below:

Drug | Schedule
Tetrahydrocannabinols (7370 | I
Dihydromorphine (9145) | I
Amphetamine (1100) | II
Methylphenidate (1724) | II
Cocaine (9041) | II
Codeine (9050) | II
Diprenorphine (9058) | II
Etorphine Hydrochloride (9059) | II
Dihydrocodeine (9120) | II
Oxycodone (9143) | II
Hydromorphone (9150) | II
Diphenoxylate (9170) | II
Hydrocodone (9193) | II
Levorphanol (9220) | II
Meperidine (9230) | II
Methadone (9250) | II
Methadone-intermediate (9254) | II
Dextropropoxyphene, bulk (non-dosage forms) (9273) | II
Morphine (9300) | II
Thebaine (9333) | II
Opium extracts (9610) | II
Opium fluid extract (9620) | II
Opium tincture (9630) | II
Opium powdered (9639) | II
Opium granulated (9640) | II
Levo-alphacetylmethadol (9648) | II
Oxymorphone (9652) | II
Noroxymorphone (9668) | II
Alfentanil (9737) | II
Sufentanil (9740) | II
Fentanyl (9801) | II

The firm plans to manufacture the controlled substances for distribution as bulk products to its customers.

No comments or objections were received. DEA has considered the factors in Title 1, United States Code, Section 823(a) and determined that the registration of Mallinckrodt, Inc. to manufacture listed controlled substances is consistent with the public interest at this time. DEA has investigated Mallinckrodt, Inc. on a regular basis to ensure that the company's continued registration is consistent with the public interest. These investigations have included inspection and testing of the company's physical security systems, verification of the company's compliance with state and local laws, and a review of the company's background and history. Therefore, pursuant to 21 U.S.C. 823 and 28 CFR 0.100 and 0.104, the Deputy Assistant Administrator, Office of Diversion Control, hereby orders that the application submitted by the above firm for registration as a bulk manufacturer of the basic classes of the controlled substances listed above is granted.

Dated: August 21, 2000.
John H. King,
Deputy Assistant Administrator, Office of Diversion Control, Drug Enforcement Administration.

[FR Doc. 00-22686 Filed 9-5-00; 8:45 am]

BILLING CODE 4410-09-M